DEPARTMENT OF THE INTERIOR

Bureau of Land Management

[NV-056-1430-ES; N-66487, N-73703]

Notice of Realty Action: Direct Sales

AGENCY: Bureau of Land Management, Interior.

ACTION: Direct Sales.

SUMMARY: The Las Vegas Valley Water District and the Clark County Sanitation District have requested direct sales for the following described public lands in Las Vegas, Clark County, Nevada. The two parcels will be used in conjunction with the development of the Desert Breeze Water Resource Center and, once patented, will house sodium hypochlorite used in the treatment of sewage water for distribution to large turf irrigators. The lands have been examined and found suitable for sale under the provisions of the Federal Land Policy and Management Act (43 CFR 2711.3-3) and the Southern Nevada Public Land Management Act of 1998 (P.L. 105-263).

N-66487 Direct Sale to Las Vegas Valley Water District

T. 21 S., R. 60 E., M.D.M.

Sec. 16, SE¼NW¼SW¼SE¼SW¼.

Containing approximately 0.625 acres, more or less.

N-73703 Direct Sale to Clark County Sanitation District

T. 21 S., R. 60 E., M.D.M.

Sec. 16, E½ NE¼SW¼SW¼ SE¼SW¼,W½NW ¼SE¼SW¼SE¼SW¼.

Containing approximately 0.625 acres, more or less. Both parcels are located near the corner of Flamingo Road and Durango Drive.

The land is not required for any federal purpose. The direct sales are consistent with current Bureau planning for this area and would be in the public interest. The patents will be subject to the provisions of the Federal Land Policy and Management Act and applicable regulations of the Secretary of the Interior, and the land will be subject to the following reservations to the United States:

1. A right-of-way thereon for ditches or canals constructed by the authority of the United States, Act of August 30, 1890, (26 Stat. 391, 43 U.S.C. 945).

2. All the mineral deposits in the lands patented, and to it, or persons authorized by it, the right to prospect, mine, and remove such deposits from the same under applicable law; and will be subject to:

1. Easements in accordance with the Clark County Transportation Plan. Detailed information concerning this action is available for review at the office of the Bureau of Land Management, Las Vegas Field Office, 4765 Vegas Drive, Las Vegas, Nevada.

The lands have been segregated from all forms of appropriation under the Southern Nevada Public Lands Management Act (P.L. 105-263).

Comments: For a period of 45 days from the date of publication of this notice in the Federal Register, interested parties may submit comments as to whether the BLM followed proper administrative procedures in reaching the decision or any other factor not directly related to the suitability of the land for direct sales. Comments should be mailed to the Field Manager, Las Vegas Field Office, 4765 Vegas Drive, Las Vegas, Nevada 89108. Any adverse comments will be reviewed by the State Director who may sustain, vacate, or modify this realty action. In the absence of any adverse comments, this realty action will become the final determination of the Department of the Interior. The lands will not be offered for conveyance until 60 days after publication of this notice in the Federal Register.

Dated: November 15, 2000.
Rex Wells,
Assistant Field Office Manager, Las Vegas, NV.

[FR Doc. 00-29798 Filed 11-20-00; 8:45 am]

BILLING CODE 4510-HC-P